DEPARTMENT OF TRANSPORTATION

Federal Aviation Administration

User Input to the Aviation Weather Technology Transfer (AWTT) Board

AGENCY: Federal Aviation Administration (FAA), Department of Transportation (DOT).

ACTION: Notice of public meeting.

SUMMARY: FAA will hold an informal public meeting to seek aviation weather user input. Details: October 12, 2004, Las Vegas Convention Center, 3150 Paradise Road, Las Vegas, Nevada 89109; 10:30 p.m. to 3 p.m. in rooms N227/N228/N229/N230. The objective of this meeting is to provide an opportunity for interested aviation weather users to provide input on FAA's plans for implementing new weather products.

DATES: The meeting will be held in rooms N227/N228/N229/N230 at the Las Vegas Convention Center, 3150 Paradise Road, Las Vegas, Nevada 89109 in conjunction with the National Business Aviation Association, Inc. (NBAA) 2004 Convention. Times: 1:30 p.m.-3 p.m. on October 12, 2004.

FOR FURTHER INFORMATION CONTACT: Debi Bacon, Weather Policy and Standards, Federal Aviation Administration, 800 Independence Ave., SW., Washington, DC 20591; telephone number (202) 385-7705; Fax: (202) 385-7701; e-mail: debi.bacon@faa.gov. Internet address: http://www.debi.bacon@faa.gov.

SUPPLEMENTARY INFORMATION:

History

In 1999, the FAA established an Aviation Weather Technology Transfer (AWTT) Board to manage the orderly transfer of weather capabilities and products from research and development into operations. The Manager of Operations Planning Policy and Administration chairs the AWTT Board. The board is composed of stakeholders in the Air Traffic Organization, ATO and Regulation and Certification, AVR in the Federal Aviation Administration and the Office of Climate, Water and Weather Services, OS and the Office of Science and Technology, OST in the National Weather Service.

The AWTT Board meets semi-annually or as needed, to determine the readiness of weather research and development (R&D) products for experimental use, full operational use for meteorologists or full operational use for end users. The board's determinations will be based upon criteria in the areas of users' needs; benefits; costs; risks; technical readiness; operational readiness and budget requirements.

The user interface process is designed to allow FAA to both report progress and receive feedback from industry users. Each AWTT board meeting will be preceded by a half-day industry review session approximately one month prior to each board meeting. These industry review sessions will be announced in the Federal Register and open to all interested parties.

This meeting is the industry review session intended to receive feedback on weather R&D products that will be presented for consideration at the November 2004 AWTT Board meeting. The products to be considered are the Graphical Turbulence Guidance Flight (GTG) Flight Level 100-200 and the Forecast Icing Product—Alaska (FIP-AK).

Meeting Procedures

(a) The meeting will be informal in nature and will be conducted by representatives of the FAA Headquarters.

(b) The meeting will be open to all persons on a space-available basis. Every effort was made to provide a meeting site with sufficient seating capacity for the expected participation. There will be neither admission fee nor other charge to attend and participate. This meeting is being held in conjunction with the NBAA Convention 2004. There is a charge to attend the NBAA convention; however, any person desiring to attend this informal meeting will be admitted by NBAA convention officials at no charge to this meeting only.

(c) FAA personnel will present a briefing on changes to the AWTT and user input process made in the last year. Any person will be allowed to ask questions during the presentation and FAA personnel will clarify any part of that presentation that is not clear.

(d) FAA personnel will present a briefing on the specific products to be reviewed at the November 2004 AWTT Board Meeting. Any person will be allowed to ask questions during the presentation and FAA personnel will clarify any part of the presentation that is not clear.

(e) Any person present may give feedback on the product to be presented. Feedback on the proposed product will be captured through discussion between FAA and personnel and any persons attending the meeting. The meeting will not be formally recorded.

(f) An official verbatim transcript or minutes of the informal meeting will not be made. However, a list of the attendees and a digest of discussions during the meeting will be produced. Any person attending may receive a copy of the written information upon request at the meeting.

(g) Every reasonable effort will be made to hear each person's feedback consistent with a reasonable closing time for the meeting. Written feedback may also be submitted to FAA personnel for up to seven (7) days after the close of the meeting.

Agenda

(a) Opening remarks and discussion of meeting procedures.

(b) Briefing on AWTT process.

(c) Briefing on weather products.

(d) Request for user input.

(e) Closing comments.

Issued in Washington, DC on September 27, 2004.
Richard J. Heuwinkel,
Manager, Weather Policy and Standards.

[FR Doc. 04-21863 Filed 9-28-04; 8:45 am]

BILLING CODE 4910-13-M